NATIONAL AERONAUTICS AND SPACE ADMINISTRATION

[Notice 05-011]

Notice of Prospective Patent License

AGENCY: National Aeronautics and Space Administration.

ACTION: Notice of Prospective Patent License.

SUMMARY: NASA hereby gives notice that Lake Shore Cryotronics, Inc. of Westerville, OH, has applied for a partially exclusive license to practice the inventions described and claimed in U.S. Patent Application No. 10/192,886, entitled “Passive Gas-Gap Heat Switch for Adiabatic Demagnetization Refrigeration,” and described in U.S. Provisional Patent Application No. 60/572,663, entitled “Adiabatic Demagnetization Refrigerator (ADR) Salt Pill Design and Crystal Growth Process for Hydrated Magnetic Salts,” which are assigned to the United States of America as represented by the Administrator of the National Aeronautics and Space Administration. Written objections to the prospective grant of a license should be sent to NASA Goddard Space Flight Center. NASA has not yet made a determination to grant the requested license and may deny the requested license even if no objections are submitted within the comment period.

DATES: Responses to this notice must be received within 15 days from date of publication in the Federal Register.

FOR FURTHER INFORMATION CONTACT: Christopher Kirkman, NASA Goddard Space Flight Center, Code 503, Greenbelt, MD 20771, (301) 286-0602.

Dated: January 18, 2005.
Keith T. Sefton,
Deputy General Counsel (Administration and Management).

[FR Doc. 05-1545 Filed 1-27-05; 8:45 am]

BILLING CODE 7510-13-U